DEPARTMENT OF COMMERCE

Foreign-Trade Zones Board

[B-43-2018]

Foreign-Trade Zone (FTZ) 21—Charleston, South Carolina; Authorization of Production Activity; AGRU America Charleston, LLC; (Polyethylene Fittings and Floaters); North Charleston, South Carolina

On June 27, 2018, AGRU America Charleston, LLC, submitted a notification of proposed production activity to the FTZ Board for its facility within FTZ 21, Site 38, in North Charleston, South Carolina.

The notification was processed in accordance with the regulations of the FTZ Board (15 CFR part 400), including notice in the Federal Register inviting public comment (83 FR 31725, July 9, 2018). On October 25, 2018, the applicant was notified of the FTZ Board's decision that no further review of the activity is warranted at this time. The production activity described in the notification was authorized, subject to the FTZ Act and the FTZ Board's regulations, including Section 400.14.

Dated: October 25, 2018.
Andrew McGilvray,
Executive Secretary.

[FR Doc. 2018-23802 Filed 10-30-18; 8:45 am]

BILLING CODE 3510-DS-P